PRESIDIO TRUST

Notice of Public Meeting

AGENCY: The Presidio Trust.

ACTION: Notice of public meeting.

SUMMARY: In accordance with section 103(c)(6) of the Presidio Trust Act, 16 U.S.C. 460bb note, Title I of Pub. L. 104-333, 110 Stat. 4097, as amended, and in accordance with the Presidio Trust's bylaws, notice is hereby given that a public meeting of the Presidio Trust Board of Directors will be held commencing 6:30 p.m. on Tuesday, November 13, 2007, at the Golden Gate Club, 135 Fisher Loop, Presidio of San Francisco, California. The Presidio Trust was created by Congress in 1996 to manage approximately eighty percent of the former U.S. Army base known as the Presidio, in San Francisco, California.

The purposes of this meeting are to approve the audited financial statements for Fiscal Year 2007, to present the 2007 Fiscal Year-End Budget Report and to adopt budget adjustments for Fiscal Year 2008, to adopt the Tennessee Hollow Finding of No Significant Impact, to adopt Public Use Limits of Battery Caulfield Road, to select the development team for the Thornburgh project, to provide an Executive Director's report, and to receive public comment in accordance with the Trust's Public Outreach Policy.

Individuals requiring special accommodation at this meeting, such as needing a sign language interpreter, should contact Mollie Matull at 415.561.5300 prior to November 5, 2007.

Time: The meeting will begin at 6:30 p.m. on Tuesday, November 13, 2007.

ADDRESSES: The meeting will be held at the Golden Gate Club, 135 Fisher Loop, Presidio of San Francisco.

FOR FURTHER INFORMATION CONTACT: Karen Cook, General Counsel, the Presidio Trust, 34 Graham Street, P.O. Box 29052, San Francisco, California 94129-0052, Telephone: 415.561.5300.

Dated: October 18, 2007.
Karen A. Cook,
General Counsel.

[FR Doc. E7-20920 Filed 10-23-07; 8:45 am]

BILLING CODE 4310-4R-P